DEPARTMENT OF DEFENSE

Office of Secretary

National Security Education Program, National Flagship Language Initiative; Advanced Language Institutional Grants Pilot Program

AGENCY: Department of Defense.

ACTION: Notice.

SUMMARY: The National Security Education Program (NSEP) announces a special competition for Advanced Language Institutional Grants under a pilot program. The competition is administered for NSEP by the National Foreign Language Center (NFLC), University of Maryland.

DATES: Grant Solicitations will be available online beginning Monday, April 1, 2002. Proposals must be received no later than Wednesday, May 15, 2002. Electronic submissions will not be accepted.

ADDRESSES: Obtain copies of the solicitation, beginning April 1, 2002 via Internet at http://www.nfl.org. Requests for copies of the proposal to those who are unable to obtain copies through the Internet should be directed by email to NFLC at: flagships@nflc.org>mailto: tgething@nfc.org> or by fax: 301-403-1754.

FOR FURTHER INFORMATION CONTACT: Dr. Thomas W. Gething, Deputy Director, National Foreign Language Centers, 7100 Baltimore Avenue, #300, College Park, Maryland 20742; Electronic mail address: tgething @nflc. org<mailto: tgething@nflc.org>

Dated: March 25, 2002.
L.M. Bynum,
Alternate OSD Federal Register Liaison Officer, Department of Defense.

[FR Doc. 02-7732 Filed 3-29-02; 8:45 am]

BILLING CODE 5001-08-M